NATIONAL AERONAUTICS AND SPACE ADMINISTRATION

14 CFR Part 1214

[Notice: 05-045]

RIN 2700-AC39

Small Self-Contained Payloads (SSCPs)

AGENCY: National Aeronautics and Space Administration (NASA).

ACTION: Final rule.

SUMMARY: NASA is removing the rule on “Small Self-Contained Payloads (SSCPs).” This rule established the rules on Space Shuttle services that are provided by NASA to participants in the SSCP program. Removal of this rule will terminate the SSCP program.

DATES: This regulation is effective March 17, 2005.

FOR FURTHER INFORMATION CONTACT: Anne Sweet, (202) 358-3784.

SUPPLEMENTARY INFORMATION: The Vision for Space Exploration, announced in January 2004, directs NASA to implement a sustained and affordable human and robotic program to explore the solar system and beyond. The first step toward accomplishing these goals is returning the Space Shuttle to safe flight and fulfilling NASA's obligations to its international partners in assembling the International Space Station. As NASA returns the Space Shuttle to flight, new safety enhancements and a backlog of Space Station up-mass requirements will severely constrain the Agency's ability to launch secondary and tertiary payloads aboard the Space Shuttle. Once assembly of the International Space Station is complete, NASA plans to retire the Space Shuttle. Consistent with this new direction and the lack of future flight opportunities, NASA has determined that the SSCP program cannot be sustained as a viable activity, and the program has been terminated. Therefore, NASA has determined that 14 CFR Ch. V 1214.9 is no longer applicable and should be removed.

List of Subjects in 14 CFR Part 1214

Government employees, Government procurement, Security measures, Space transportation and exploration.

Therefore, under the authority of 42 U.S.C. 2451 et seq., 14 CFR subpart 1214.9, consisting of §§ 1214.900 through 1214.912, is removed.

Subpart 1214.9—[Removed]

Sean O'Keefe,
Administrator.

[FR Doc. 05-5089 Filed 3-16-05; 8:45 am]

BILLING CODE 7510-13-P